DEPARTMENT OF THE INTERIOR

National Park Service

[NPS-WASO-NAGPRA-NPS0034290; PPWOCRADN0-PCU00RP14.R50000]

Notice of Inventory Completion: State University of New York at New Paltz, Department of Anthropology, New Paltz, NY

AGENCY: National Park Service, Interior.

ACTION: Notice.

SUMMARY: The State University of New York at New Paltz, Department of Anthropology (SUNY New Paltz) has completed an inventory of human remains, in consultation with the appropriate Indian Tribes or Native Hawaiian organizations and has determined that there is a cultural affiliation between the human remains and a present-day Indian Tribe or Native Hawaiian organization. Lineal descendants or representatives of any Indian Tribe or Native Hawaiian organization not identified in this notice that wish to request transfer of control of these human remains should submit a written request to SUNY New Paltz. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to SUNY New Paltz at the address in this notice by September 2, 2022.

FOR FURTHER INFORMATION CONTACT: Dr. Joseph E. Diamond, Associate Professor of Anthropology, 325 Wooster Hall, State University of New York at New Paltz, 1 Hawk Drive, New Paltz, NY 12561, telephone (845) 257-2990, email diamondj@newpaltz.edu.

SUPPLEMENTARY INFORMATION: Notice is here given in accordance with the Native American Graves Protection and Repatriation Act (NAGPRA), 25 U.S.C. 3003, of the completion of an inventory of human remains under the control of the State University of New York at New Paltz, Department of Anthropology, New Paltz, NY. The human remains were removed from several locations in Ulster County, NY, and one location in Dutchess County, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the SUNY New Paltz professional staff in consultation with representatives of the Stockbridge Munsee Community, Wisconsin.

History and Description of the Remains

In 1985, human remains representing, at minimum, one individual were removed from the Hendrickson Site in Kingston, Ulster County, NY, by Dr. A. Leonard Eisenberg of SUNY New Paltz. The human remains—one complete skeleton belonging to a male 19-20 years old—were excavated from Feature #6. No known individual was identified. No associated funerary objects are present.

In 1973, human remains representing, at minimum, one individual were removed from Richmond Parkway in the Town of Ulster, Ulster County, NY. The human remains were found in a utility trench and were brought to SUNY New Paltz by Dr. Leonard Eisenberg at that time. The human remains belong to a female 10-14 years old. Although a 1973 newspaper article discussed the discovery of points and pottery at the site, these were not included with the human remains that were transferred to SUNY New Paltz. No known individual was identified. No associated funerary objects are present.

Sometime during the 1930s-1940s, human remains representing, at minimum, one individual were removed from River Road in the Town of Esopus, Ulster County, NY. The human remains were found by road workers. The human remains belong to a female 25-35 years old. The nearly complete skeleton is missing the mandible and cranium. No known individual was identified. No associated funerary objects are present.

At an unknown time, human remains representing, at minimum, three individuals were removed from an unknown location reasonably believed to be in NY. The human remains were assembled by or gifted to Dr. Leonard Eisenberg of SUNY New Paltz prior to his death in 1992. The comingled human remains include multiple skeletal elements belonging to three individuals. No known individuals were identified. No associated funerary objects are present.

Sometime in the 1930s, human remains representing, at minimum, two individuals were removed from Huyler Rockshelter in Hyde Park, Dutchess County, NY, by Alvin Wanzer and F. Lawrence Flewelling. The human remains belong to a subadult 14-23 years old and an adult 21-32 years old, both of unknown gender. No known individuals were identified. No associated funerary objects are present.

Determinations Made by the State University of New York at New Paltz, Department of Anthropology

Officials of the State University of New York at New Paltz, Department of Anthropology have determined that:

• Pursuant to 25 U.S.C. 3001(9), the human remains described in this notice represent the physical remains of eight individuals of Native American ancestry.

• Pursuant to 25 U.S.C. 3001(2), there is a relationship of shared group identity that can be reasonably traced between the Native American human remains and the Stockbridge Munsee Community, Wisconsin.

Additional Requestors and Disposition

Lineal descendants or representatives of any Indian Tribe or Native Hawaiian organization not identified in this notice that wish to request transfer of control of these human remains should submit a written request with information in support of the request to Dr. Joseph E. Diamond, Associate Professor of Anthropology, 325 Wooster Hall, State University at New York at New Paltz, 1 Hawk Drive, New Paltz, NY 12561, telephone (845) 257-2990, email diamondj@newpaltz.edu, by September 2, 2022. After that date, if no additional requestors have come forward, transfer of control of the human remains to the Stockbridge Munsee Community, Wisconsin may proceed.

The State University of New York at New Paltz, Department of Anthropology is responsible for notifying the Stockbridge Munsee Community, Wisconsin that this notice has been published.

Dated: July 27, 2022.
Melanie O'Brien,
Manager, National NAGPRA Program.

[FR Doc. 2022-16569 Filed 8-2-22; 8:45 am]

BILLING CODE 4312-52-P